DEPARTMENT OF DEFENSE

48 CFR Part 225

[DFARS Case 99-D005]

Defense Federal Acquisition Regulation Supplement; Foreign Military Sales Customer Observation of Negotiations

AGENCY: Department of Defense (DoD).

ACTION: Proposed rule; withdrawal.

SUMMARY: DoD is withdrawing the proposed rule published at 64 FR 22825 on April 28, 1999. The rule proposed to amend the Defense Federal Acquisition Regulation Supplement (DFARS) to allow Foreign Military Sales (FMS) customers to observe contract price negotiations. This change was proposed as a part of a DoD initiative to improve the FMS process. DoD has reconsidered this rule based on public comments. DoD is considering alternative methods of satisfying the pricing information needs of countries that acquire supplies and services through the FMS program. Therefore, DoD is withdrawing the proposed rule.

FOR FURTHER INFORMATION CONTACT: Ms. Amy Williams, Defense Acquisition Regulations Council, OUSD (AT&L) DP (DAR), IMD 3C132, 3062 Defense Pentagon, Washington, DC 20301-3062. Telephone (703) 602-0288; telefax (703) 602-0350. Please cite DFARS Case 99-D005.

Michele P. Peterson,
Executive Editor, Defense Acquisition Regulations Council.

[FR Doc. 00-27245 Filed 10-24-00; 8:45 am]

BILLING CODE 5000-04-M